DEPARTMENT OF VETERANS AFFAIRS

Advisory Committee on CARES Business Plan Studies; Cancellation of Meeting

The Department of Veterans Affairs (VA) gives notice under the Public Law 92-463 (Federal Advisory Committee Act) that the devastating impact of Hurricane Katrina has forced the cancellation of the Advisory Committee on CARES Business Plan Studies meeting previously scheduled for Thursday, September 29, 2005, from 1 p.m. until 5 p.m., at the VA Gulf Coast Veterans Health Care System, Building 17, Recreation Hall, 400 Veterans Avenue, Biloxi, MS.

The purpose of the Committee is to provide advice to the Secretary of Veterans Affairs on proposed business plans at those VA facility sites identified in May 2004 as requiring further study by the Capital Asset Realignment for Enhanced Series (CARES) Decision document.

For additional information regarding this matter, please contact Mr. Jay Halpern, Designated Federal Officer, (00CARES), 810 Vermont Avenue, NW., Washington, DC 20024 by phone at (202) 273-5994, or by e-mail at jay.halpern@va.gov.

Dated: September 9, 2005.
E. Philip Riggin,
Committee Management Officer.

[FR Doc. 05-18290 Filed 9-14-05; 8:45 am]

BILLING CODE 8320-01-M